DEPARTMENT OF JUSTICE

Antitrust Division

Notice Pursuant to the National Cooperative Research and Production Act of 1993—Mobile Satellite Services Association

Notice is hereby given that, on November 4, 2025, pursuant to section 6(a) of the National Cooperative Research and Production Act of 1993, 15 U.S.C. 4301 et seq. (“the Act”), Mobile Satellite Services Association (“MSSA”), filed written notifications simultaneously with the Attorney General and the Federal Trade Commission disclosing changes in its membership. The notifications were filed for the purpose of extending the Act's provisions limiting the recovery of antitrust plaintiffs to actual damages under specified circumstances. Specifically, Accelercomm Ltd., Wasserbillig, GRAND DUCHY OF LUXEMBOURG; Capgemini America Inc., Santa Clara, CA; OQ TECHNOLOGY S.à r.l., Southampton, UNITED KINGDOM; OrbitsIQ Global, Luxembourg, GRAND DUCHY OF LUXEMBOURG; and CGI IT UK LIMITED, London, UNITED KINGDOM have been added as parties to this venture.

Also, ULAK HABERLESME A.S., Çankaya, REPUBLIC OF TURKEY has withdrawn as a party to this venture. No other changes have been made to either the membership or planned activity of the group research project. Membership in this group remains open, and MSSA intends to file additional written notifications disclosing all changes in membership.

On April 26, 2024, MSSA filed its original notification pursuant to section 6(a) of the Act. The Department of Justice published a notice in the Federal Register pursuant to section 6(b) of the Act on June 21, 2024 (89 FR 52089).

The last notification was filed with the Department on August 8, 2025. A notice was published in the Federal Register pursuant to section 6(b) of the Act on January 2,2026 (91 FR 166).

Suzanne Morris,
Deputy Director Civil Enforcement Operations, Antitrust Division.

[FR Doc. 2026-00950 Filed 1-16-26; 8:45 am]

BILLING CODE 4410-11-P